DEPARTMENT OF ENERGY

Federal Energy Regulatory Commission

Combined Notice of Filings #1

Take notice that the Commission received the following electric corporate filings:

Docket Numbers: EC16-29-000.

Applicants: Holtwood, LLC, BIF III Holtwood LLC.

Description: Joint Application of Holtwood, LLC et al. for Authorization under Section 203 of the FPA and Request for Limited Waivers.

Filed Date: 11/6/15.

Accession Number: 20151106-5197.

Comments Due: 5 p.m. ET 11/27/15.

Docket Numbers: EC16-30-000.

Applicants: Talen Ironwood, LLC, Talen Energy Marketing, LLC, TransCanada Facility USA, Inc., TransCanada Power Marketing, Ltd.

Description: Joint Application of Talen Ironwood, LLC et al. for Authorization of Disposition of Jurisdictional Facilities under Section 203 of the FPA and Requests for Waivers.

Filed Date: 11/6/15.

Accession Number: 20151106-5198.

Comments Due: 5 p.m. ET 11/27/15.

Take notice that the Commission received the following exempt wholesale generator filings:

Docket Numbers: EG16-19-000.

Applicants: BIF III Holtwood LLC.

Description: Notice of Self-Certification of Exempt Wholesale Generator Status of BIF III Holtwood LLC.

Filed Date: 11/6/15.

Accession Number: 20151106-5169.

Comments Due: 5 p.m. ET 11/27/15.

Take notice that the Commission received the following electric rate filings:

Docket Numbers: ER10-1790-012; ER10-2596-005; ER10-276-003; ER11-3325-004.

Applicants: BP Energy Company, Fowler Ridge II Wind Farm LLC, Rolling Thunder I Power Partners, LLC, Whiting Clean Energy, Inc.

Description: Supplement to June 26, 2015 Updated Market Power Analysis for Central Region of BP Energy Company, et al.

Filed Date: 11/6/15.

Accession Number: 20151106-5186.

Comments Due: 5 p.m. ET 11/27/15.

Docket Numbers: ER16-287-000.

Applicants: BIF III Holtwood LLC.

Description: Baseline eTariff Filing: BIF III Holtwood LLC MBR Application to be effective 11/9/2015.

Filed Date: 11/6/15.

Accession Number: 20151106-5139.

Comments Due: 5 p.m. ET 11/27/15.

Docket Numbers: ER16-288-000.

Applicants: Entergy Services, Inc.

Description: § 205(d) Rate Filing: Entergy Services, Inc., Amended Service Agreements to be effective 11/8/2015.

Filed Date: 11/6/15.

Accession Number: 20151106-5141.

Comments Due: 5 p.m. ET 11/27/15.

Docket Numbers: ER16-289-000.

Applicants: Pacific Gas and Electric Company.

Description: § 205(d) Rate Filing: COTP CIRS Appendix F Update to be effective 1/6/2016.

Filed Date: 11/6/15.

Accession Number: 20151106-5142.

Comments Due: 5 p.m. ET 11/27/15.

Docket Numbers: ER16-290-000.

Applicants: Mesquite Solar 1, LLC.

Description: § 205(d) Rate Filing: Mesquite Solar 1, LLC Assignment, Co-Tenancy and Shared Facilities Agreement to be effective 11/20/2015.

Filed Date: 11/6/15.

Accession Number: 20151106-5143.

Comments Due: 5 p.m. ET 11/27/15.

Docket Numbers: ER16-291-000.

Applicants: Arizona Public Service Company.

Description: Notice of Cancellation of Rate Schedule No. 25 of Arizona Public Service Company.

Filed Date: 11/6/15.

Accession Number: 20151106-5185.

Comments Due: 5 p.m. ET 11/27/15.

Docket Numbers: ER16-292-000.

Applicants: Northern Virginia Electric Cooperative, Inc.

Description: Notice of Cancellation of Rate Schedule No. 1 of Northern Virginia Electric Cooperative, Inc.

Filed Date: 11/6/15.

Accession Number: 20151106-5195.

Comments Due: 5 p.m. ET 11/27/15.

Take notice that the Commission received the following land acquisition reports:

Docket Numbers: LA15-3-000.

Applicants: Cimarron Windpower II, LLC, CinCap V, LLC, Conetoe II Solar, LLC, Duke Energy Beckjord, LLC, Duke Energy Beckjord Storage, LLC, Duke Energy Carolinas, LLC, Duke Energy Commercial Enterprises, Inc., Duke Energy Florida, LLC, Duke Energy Indiana, Inc., Duke Energy Kentucky, Inc., Duke Energy Ohio, Inc., Duke Energy Piketon, LLC, Duke Energy Progress, LLC, Duke Energy Renewable Services, LLC, Happy Jack Windpower, LLC, Ironwood Windpower, LLC, Kit Carson Windpower, LLC, Laurel Hill Wind Energy, LLC, North Allegheny Wind, LLC, Silver Sage Windpower, LLC, Three Buttes Windpower, LLC, Top of the World Wind Energy, LLC, Seville Solar One LLC, Seville Solar Two, LLC, Tallbear Seville LLC.

Description: Quarterly Land Acquisition Report of the Duke Energy MBR Affiliates.

Filed Date: 11/6/15.

Accession Number: 20151106-5154.

Comments Due: 5 p.m. ET 11/27/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2015.
Nathaniel J. Davis, Sr.,
Deputy Secretary.

[FR Doc. 2015-29144 Filed 11-13-15; 8:45 am]

BILLING CODE 6717-01-P